DEPARTMENT OF TRANSPORTATION

Federal Aviation Administration

14 CFR Part 39

[Docket No. 2000-CE-03-AD; Amendment 39-11946; AD 2000-21-14]

RIN 2120-AA64

Airworthiness Directives; Pilatus Aircraft Ltd. Models PC-12 and PC-12/45 Airplanes

AGENCY: Federal Aviation Administration, DOT.

ACTION: Final rule.

SUMMARY: This amendment adopts a new airworthiness directive (AD) that applies to certain Pilatus Aircraft Ltd. (Pilatus) Models PC-12 and PC-12/45 airplanes. This AD requires you to perform a one-time inspection for abrasion damage, distortion, and proper clearance of the torque oil-pressure tubes and py pressure pipe, and if necessary, adjust and replace these components. This AD is the result of mandatory continuing airworthiness information (MCAI) issued by the airworthiness authority for Switzerland. The actions specified by this AD are intended to correct abrasive damage from rubbing pipes and consequent loss of engine oil.

DATES: This AD becomes effective on December 15, 2000.

The Director of the Federal Register approved the incorporation by reference of certain publications listed in the regulations as of December 15, 2000.

ADDRESSES: You may get the service information referenced in this AD from Pilatus Aircraft Ltd., Customer Liaison Manager, CH-6371 Stans, Switzerland; telephone: +41 41 619 63 19; facsimile: +41 41 619 6224. You may examine this information at the Federal Aviation Administration (FAA), Central Region, Office of the Regional Counsel, Attention: Rules Docket No. 2000-CE-03-AD, 901 Locust, Room 506, Kansas City, Missouri 64106; or at the Office of the Federal Register, 800 North Capitol Street, NW., suite 700, Washington, DC 20001.

FOR FURTHER INFORMATION CONTACT: Roman T. Gabrys, Aerospace Engineer, FAA, Small Airplane Directorate, 901 Locust, Room 301, Kansas City, Missouri 64106; telephone: (816) 329-4141; facsimile: (816) 329-4090.

SUPPLEMENTARY INFORMATION:

Discussion

What events have caused this AD? The Federal Office for Civil Aviation (FOCA), which is the airworthiness authority for Switzerland, recently notified the FAA that an unsafe condition may exist on certain Pilatus Model PC-12 and PC-12/45 airplanes. The FOCA reports that 3 airplanes had rubbing pipes, 2 with consequent leakage of engine oil. Inadequate clearance caused these components to touch and rub.

What are the consequences if you do not correct the condition? This condition, if not corrected, could result in loss of propulsion during flight.

Has FAA taken any action to this point? We issued a proposal to amend part 39 of the Federal Aviation Regulations (14 CFR part 39) to include an AD that would apply to certain Pilatus Models PC-12 and PC-12/45 airplanes. This proposal was published in the Federal Register as a notice of proposed rulemaking (NPRM) on August 18, 2000 (65 FR 50466). The NPRM proposed to require a one-time inspection of the torque oil-pressure tubes and py pressure pipe; and adjust and replace, if necessary, the torque oil-pressure tubes and py pressure pipe.

Was the public invited to comment? Interested persons were afforded an opportunity to participate in the making of this amendment. No comments were received on the proposed rule or the FAA's determination of the cost to the public.

The FAA's Determination

What is FAA's Final Determination on this Issue? After careful review of all available information related to the subject presented above, we have determined that air safety and the public interest require the adoption of the rule as proposed except for minor editorial corrections. We determined that these minor corrections:

• Will not change the meaning of the AD; and

• Will not add any additional burden upon the public than was already proposed.

Cost Impact

How many airplanes does this AD impact? We estimate that this AD affects 108 airplanes in the U.S. registry.

What is the cost impact of this AD on owners/operators of the affected airplanes? We estimate the following costs to accomplish the inspection:

Labor cost | Parts cost | Total cost per airplane | Total cost on U.S. airplane operators
1 workhour × $60 per hour = $60 | No part required for the inspection | $60 per airplane | $60 × 108 = $6,480.

We estimate the following costs to accomplish the adjustment and replacement:

Labor cost | Parts cost | Total cost per airplane | Total cost on U.S. airplane operators
2 workhours × $60 per hour = $120 | The manufacturer will provide replacement parts at no charge to the owner/operator of the affected airplanes | $120 per airplane | $120 × 108 = $12,960.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act.

A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new AD to read as follows:

2000-21-14 Pilatus Aircraft Ltd.: Amendment 39-11946; Docket No. 2000-CE-03-AD.

(a) What airplanes are affected by this AD? This AD affects Models PC-12 and PC-12/45 airplanes, manufacturer serial numbers (MSN) 101 through MSN 301, that:

(1) Are certificated in any category; and

(2) Are equipped with any of the following Pilatus torque oil-pressure tubes and py pressure pipe assemblies:

(i) Pilatus part number (P/N) 577.11.12.105 (or FAA-approved equivalent part number);

(ii) Pratt & Whitney Canada (P&WC) P/N 3119969 (or FAA-approved equivalent part number); and

(iii) Pilatus P/N 577.11.12.104 (or FAA-approved equivalent part number).

(b) Who must comply with this AD? Anyone who wishes to operate any of the above airplanes must comply with this AD.

(c) What problem does this AD address? The actions specified by this AD are intended to correct chafing damage and consequent loss of engine oil caused by rubbing pipes. Such damage could result in loss of propulsion during critical phases of flight.

(d) What actions must I accomplish to address this problem? To address this problem, you must accomplish the following actions:

Actions | Compliance times | Procedures
(1) Inspect the torque oil-pressure tubes and the py pressure pipe assemblies for abrasion damage and distortion | Within the next 50 hours time-in-service (TIS) after December 15, 2000 (the effective date of the AD) | Accomplish in accordance with the ACCOMPLISHMENT INSTRUCTIONS—AIRCRAFT paragraph of Pilatus Service Bulletin No. 71-004, dated December 22, 1999.
(2) If there is any abrasion damage or distortion, accomplish the following | Before further flight after the inspection | As specified in the above-referenced service information.
(i) Replace the pipes and tubes with the damage or distortion; and
(ii) Make sure there is a clearance distance of not less than 0.12 inches (3.0 millimeters), and make any appropriate adjustments.
(3) If no abrasion damage or distortion is found, make sure there is a clearance distance of not less than 0.12 inches (3.0 millimeters), and make any appropriate adjustments | Before further flight after the inspection | As specified in the above-referenced service information.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roman T. Gabrys, Aerospace Engineer, FAA, Small Airplane Directorate, 901 Locust, Room 301, Kansas City, Missouri 64106; telephone: (816) 329-4141; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Pilatus Service Bulletin No. 71-004, dated December 22, 1999. The Director of the Federal Register approved this incorporation by reference under 5 U.S.C. 552(a) and 1 CFR part 51. You can get copies from Pilatus Aircraft Ltd., Customer Liaison Manager, CH-6371 Stans, Switzerland. You can look at copies at the FAA, Central Region, Office of the Regional Counsel, 901 Locust, Room 506, Kansas City, Missouri, or at the Office of the Federal Register, 800 North Capitol Street, NW., suite 700, Washington, DC.

(i) When does this amendment become effective? This amendment becomes effective on December 15, 2000.

Note 2: The subject of this AD is addressed in Swiss AD Number HB 2000-007, dated January 17, 2000.

Issued in Kansas City, Missouri, on October 17, 2000.
Michael Gallagher,
Manager, Small Airplane Directorate, Aircraft Certification Service.

[FR Doc. 00-27222 Filed 10-26-00; 8:45 am]

BILLING CODE 4910-13-U